DEPARTMENT OF THE INTERIOR

Bureau of Land Management

[OR-030-1020-XX-028H; HAG 05-0046]

2005 Meeting Notices for the John Day/Snake Resource Advisory Council

AGENCY: Bureau of Land Management (BLM), Vale District, Interior.

SUMMARY: The John Day/Snake Resource Advisory Council will meet on Wednesday, March 23, 2005 8 a.m. to 4 p.m. at the Geiser Grand Hotel, 1996 Main Street, Baker City, OR 97814.

The meeting may include such topics as, Forest Service Weeds Plan, subcommittee updates on OHV, Noxious Weeds step-down plans, 2005 Annual Work Plan, Workforce Planning impacts on Forest Service and BLM offices, and other matters as may reasonably come before the board.

On Thursday, March 24 there may be a field trip to Virtue Flat to watch Sage Grouse.

The John Day/Snake Resource Advisory Council will meet on Wednesday, June 15, 2005, 8 a.m. to 4 p.m. at the Quality Inn, 700 Port Drive Clarkston, WA.

The meeting may include such topics as, OHV, Noxious Weeds, Planning, Sage Grouse, and other matters as may reasonably come before the board.

On Thursday, June 16, 2005 there may be a field trip to Hells Canyon to discuss noxious weeds, Sage Grouse, OHV roads and trails, and other matters as identified.

The John Day/Snake Resource Advisory Council will meet on Wednesday, September 21, 2005, 8 a.m. to 4 p.m. at the Oxford Suites, 2400 SW Court Place, Pendleton, OR 97801.

The meeting may include such topics as, Forest Service Weeds Plan, subcommittee updates on OHV, Noxious Weeds, Planning, Sage Grouse, and other matters as may reasonably come before the board.

On Thursday, September 22, 2005 there may be a field trip that could include a tour of the Umatilla National Forest office in Pendleton, OR, a wind energy tour in Walla Walla, WA, or an anaerobic digestion site tour.

All meetings are open to the public. For a copy of the information to be distributed to the Council members, please submit a written request to the Vale District Office 10 days prior to the meeting. Public comment is scheduled for 11 a.m. to 11:15 a.m., Pacific Time (PT) on March 23, June 15, and September 21, 2005.

FOR FURTHER INFORMATION CONTACT: Additional information concerning the John Day/Snake Resource Advisory Council may be obtained from Debra Lyons, Public Affairs, Vale District Office, 100 Oregon Street, Vale, OR 97918 (541) 473-3144, or e-mail Debra_Lyons@or.blm.gov.

Dated: January 10, 2005.
Larry Frazier,
Associate District Manager.

[FR Doc. 05-786 Filed 1-13-05; 8:45 am]

BILLING CODE 4310-33-P